NUCLEAR REGULATORY COMMISSION

[Docket No. 50-272]

Public Service Electric and Gas Company; Notice of Consideration of Issuance of Amendment to Facility Operating License, Proposed No Significant Hazards Consideration Determination, and Opportunity for a Hearing

The U.S. Nuclear Regulatory Commission (the Commission) is considering issuance of an amendment to Facility Operating License No. DPR-70 issued to Public Service Electric and Gas Company (PSE&G), the licensee, for operation of the Salem Nuclear Generating Station, Unit No. 1 (Salem Unit No. 1), located in Salem County, New Jersey.

By application dated May 3, 2000, the licensee proposed a license amendment that would modify Technical Specification (TS) 3.1.3.2.1, and TS Surveillance Requirements 4.1.3.1.1 and 4.1.3.4. A note would be added to these sections stating that, during Cycle 14, the position of Rod 1SB2 will be determined indirectly by the movable incore detectors within 8 hours following its movement until the repair of the indication system for this rod. In addition, the note would indicate that, during reactor startup, the fully withdrawn position of Rod 1SB2 will be determined by current traces or other equivalent means, and subsequently verified by the movable incore detectors prior to entry into Mode 1. The note would be effective during the remainder of Cycle 14, or until repair of the indication system is completed. The indication system for Rod 1SB2 became inoperable on April 28, 2000. The position indication system indicates that the rod is fully inserted; however, the licensee has confirmed that the rod is in the fully withdrawn position based on flux mapping information from the movable incore detectors. Troubleshooting has resulted in a determination that the position indication system cannot be repaired with the reactor in Modes 1-4. With one analog rod position indicator inoperable, the TS currently requires that either (1) the position of the non-indicating rod be determined indirectly by the movable incore detectors once per 8 hours and within 1 hour of any motion that exceeds 24 steps, or (2) thermal power be reduced to less than 50% within 8 hours. The licensee is currently implementing option (1).

The licensee has also requested that the license amendment be reviewed and approved on an exigent basis in accordance with 10 CFR 50.91(a)(6). In its application, PSE&G stated that the position indication system cannot be repaired with the reactor at power and that the possibility exists that repairs cannot be made until the plant is shutdown. Personnel safety and concerns over occupational exposure to radiation dose prevent the safe completion of repairs while operating at power. The licensee also stated that the failure was unexpected and has resulted in a significant burden to plant operations personnel as well as the movable incore detectors. PSE&G is concerned that operation of the Unit 1 flux mapping system, by as much as 120 times per month to comply with compensatory actions required by TS, may have detrimental effects, such as increased wear and tear, on the incore system. Since the incore system was not designed to operate in this manner, an increased risk of significant equipment malfunction may further challenge the licensee's ability to perform other TS surveillances for which the incore system is normally used.

Before issuance of the proposed license amendment, the Commission will have made findings required by the Atomic Energy Act of 1954, as amended (the Act) and the Commission's regulations.

Pursuant to 10 CFR 50.91(a)(6) for amendments to be granted under exigent circumstances, the NRC staff must determine that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. The proposed changes do not involve a significant increase in the probability or consequences of an accident previously evaluated.

The proposed change reduces the frequency of verifying the position of one non-indicating rod using the movable incore detectors and allows a different means of verifying rod position during reactor startup. The inoperability of the normal position indicating system does not affect the probability of a rod drop, a rod misalignment, or any other analyzed accident.

The inoperability of the rod position indicator eliminates one means of detecting a rod drop or rod misalignment. Failure to detect a misaligned rod could affect the initial conditions of the accident analysis and thereby affect the consequences. Based upon the other means available for detecting rod drops and misalignment (e.g., the urgent failure alarm), the increase in the likelihood of an undetected rod drop or misalignment is considered to be negligible. As a result, the initial conditions of the accident analysis are preserved and the consequences of previously analyzed accidents are unaffected.

Therefore, the change does not involve a significant increase in the probability or consequences of an accident previously evaluated.

2. The proposed change does not create the possibility of a new or different kind of accident from any accident previously evaluated.

The change will not introduce any new accident initiators. The change only allows an extension to the previously approved frequency for verifying rod position for one non-indicating rod and allows a different means of verifying rod position during reactor startup.

Therefore, the change does not create the possibility of a new or different kind of accident from any accident previously evaluated.

3. The proposed change does not involve a significant reduction in a margin of safety.

The proposed change reduces the frequency of verifying the position of one non-indicating rod using the movable incore detectors and allows a different means of verifying rod position during reactor startup. The inoperability of the rod position indicator eliminates one means of detecting a rod drop or rod misalignment. Failure to detect a misaligned rod could affect the initial conditions of the accident analysis and thereby affect the associated margins of safety. Based upon the other means available for detecting rod drops and misalignment (e.g., the urgent failure alarm), the increase in the likelihood of an undetected rod drop or misalignment is considered to be negligible. As a result, the initial conditions of the accident analysis are preserved and the margins of safety are unaffected.

Therefore, the change does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 14 days after the date of publication of this notice will be considered in making any final determination.

Normally, the Commission will not issue the amendment until the expiration of the 14-day notice period. However, should circumstances change during the notice period, such that failure to act in a timely way would result, for example, in derating or shutdown of the facility, the Commission may issue the license amendment before the expiration of the 14-day notice period, provided that its final determination is that the amendment involves no significant hazards consideration. The final determination will consider all public and State comments received. Should the Commission take this action, it will publish in the Federal Register a notice of issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By May 24, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If the amendment is issued before the expiration of the 30-day hearing period, the Commission will make a final determination on the issue of no significant hazards consideration. If a hearing is requested, the final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Jeffrie J. Keenan, Esquire, Nuclear Business Unit—N21, P.O. Box 236, Hancocks Bridge, NJ 08038, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated May 3, 2000, which is available for public inspection at the Commission's Public Document Room, the Gelman Building, 2120 L Street, NW., Washington, DC, and accessible electronically through the ADAMS Public Electronic Reading Room link at the NRC Web site (http://www.nrc.gov).

Dated at Rockville, Maryland, this 4th day of May 2000.
For the Nuclear Regulatory Commission.
Robert J. Fretz,
Project Manager, Section 2, Project Directorate I, Division of Licensing Project Management, Office of Nuclear Reactor Regulation.

[FR Doc. 00-11665 Filed 5-9-00; 8:45 am]

BILLING CODE 7590-01-P